NATIONAL SCIENCE FOUNDATION

Agency Information Collection Activities: Comment Request; NSF Federal Cyber Scholarship-for-Service Program (CyberCorps® SFS)

AGENCY: National Science Foundation.

ACTION: Submission for OMB review; comment request.

SUMMARY: The National Science Foundation (NSF) has submitted the following information collection requirement to OMB for review and clearance under the Paperwork Reduction Act of 1995. This is the second notice for public comment; the first was published in the Federal Register, and no comments were received. NSF is forwarding the proposed submission to the Office of Management and Budget (OMB) for clearance simultaneously with the publication of this second notice.

DATES: Written comments and recommendations for the proposed information collection should be sent within 30 days of publication of this notice to www.reginfo.gov/public/do/PRAmain. Find this particular information collection by selecting “Currently under 30-day Review—Open for Public Comments” or by using the search function.

FOR FURTHER INFORMATION CONTACT: Suzanne H. Plimpton, Reports Clearance Officer, National Science Foundation, 2415 Eisenhower Avenue, Alexandria, Virginia 22314; telephone (703) 292-7556; or send email to splimpto@nsf.gov. Individuals who use a telecommunications device for the deaf (TDD) may call the Federal Information Relay Service (FIRS) at 1-800-877-8339, which is accessible 24 hours a day, 7 days a week, 365 days a year (including Federal holidays).

Comments: Comments regarding (a) whether the proposed collection of information is necessary for the proper performance of the functions of the NSF, including whether the information shall have practical utility; (b) the accuracy of the NSF's estimate of the burden of the proposed collection of information; (c) ways to enhance the quality, use, and clarity of the information on respondents; and (d) ways to minimize the burden of the collection of information on those who are to respond, including through the use of appropriate automated, electronic, mechanical, or other technological collection techniques or other forms of information technology should be addressed to the points of contact in the FOR FURTHER INFORMATION CONTACT section.

Copies of the submission may be obtained by calling 703-292-7556. NSF may not conduct or sponsor a collection of information unless the collection of information displays a currently valid OMB control number, and the agency informs potential persons who are to respond to the collection of information that such persons are not required to respond to the collection of information unless it displays a currently valid OMB control number.

SUPPLEMENTARY INFORMATION:

Title of Collection: CyberCorps® SFS Scholarship Agreement to Serve or Repay.

OMB Control No.: 3145-NEW.

Type of Request: Intent to seek approval to establish an information collection for three years.

Abstract: NSF published a Notice of Proposed Rulemaking on July 15, 2022 (87 FR 42431), which included a requirement for an information collection. The proposed rule set forth additional information collection activities subject to OMB clearance and approval under the Paperwork Reduction Act (44 U.S.C. 3501 et seq.) (PRA). OPM, in operating the SFS program office on behalf of NSF, already has OMB clearance for information collected from scholarship recipients and others through its SFS online Web portal, which NSF's rule does not modify. See OMB Control Number 3206-0246.¹

¹ NSF also has its own OMB approval and clearance number (3145-0058) that applies when it collects information from institutions of higher education that seek or obtain grant awards under the CyberCorps® SFS program to fund scholarships to their students.

The additional information to be collected under the NSF's rule includes any additional employment, contact, or other information relating to a scholarship recipient's repayment obligation if the recipient fails to fulfill the terms and conditions of the scholarship, the conversion of that obligation into a Federal direct unsubsidized student loan administered by and payable to the Department of Education, and/or the referral of that repayment obligation to the Department of Treasury for amounts that remain unpaid and cannot be converted to such a loan. See § 620.3, § 620.6. This information collection activity would also include any form, questionnaire, or other set of identical questions relating to a scholarship recipient's request to defer or waive their service or repayment obligation. See § 620.4, § 620.5. The proposed rule document provided an estimate of the total number of respondents and annual burden hours. NSF received no public comments on the proposed information collection activities or burden estimates.

Use of the Information: Information collected from scholarship recipients will be used to monitor their compliance with the program's service obligation, to update and maintain their current contact information in relevant agency records maintained by NSF and OPM, to answer questions regarding the recipient's repayment obligation or the conversion of that obligation to an unsubsidized student loan for collection purposes by the Department of Education, and to review and determine whether to grant or deny any individual requests or appeals to NSF for discharge or deferral of their repayment or service obligation. Information pertaining to the conversion of the recipient's obligation to a Federal unsubsidized student loan may be forwarded to and used by NSF, the Department of Education, and Department of Treasury, as applicable, for student loan management, tracking, and collection purposes. Information may also be used to prepare and disseminate aggregate statistics or other data to fulfill statutory program tracking, reporting, and evaluation requirements.

Expected Respondents: Individual participants in the CyberCorps Scholarships for Service Program.

Estimated Number of Annual Respondents: 20.

Burden on the Public: 2 hours minutes per respondent for an estimated 40 hours annually.

Dated: April 24, 2023.
Suzanne H. Plimpton,
Reports Clearance Officer, National Science Foundation.

[FR Doc. 2023-08994 Filed 4-27-23; 8:45 am]

BILLING CODE 7555-01-P